DEPARTMENT OF COMMERCE

Economic Development Administration

Notice of Petitions by Producing Firms for Determination of Eligibility To Apply for Trade Adjustment Assistance

AGENCY: Economic Development Administration, Commerce.

ACTION: To give firms an opportunity to comment.

Petitions have been accepted for filing on the dates indicated from the firms listed below.

List of Petition Action by Trade Adjustment Assistance for Period 10/20/01-11/15/01
Firm name | Address | Date petition accepted | Product
Acme Pad Corporation | 330 N. Warwick Street, Baltimore, MD 21223 | 10/25/01 | Shoulder pads used in tailored clothing.
York Mold, Inc, | 3865 N. George Street, Manchester, PA 17345 | 10/25/01 | Cast cold formed battery terminals.
Global Tech Industries, Inc, | 418 Highway 441, Cornelia, GA 30531 | 10/25/01 | Specialty candles.
E. E. Dion, Inc, | 33 Franklin McKay Road, Attleboro, MA 02703 | 11/05/01 | Jewelry of plated base and precious metals.
La Abuela Mexican Foods, Inc, | 516 South 17th, McAllen, TX 78501 | 11/05/01 | Tortillas.
Belcam, Inc, | 27 Montgomery Street, Rouses Point, NY 12979 | 11/06/01 | Toiletries and fragrances.
B. R. MacD., Inc. d.b.a. McDonald Footwear | Industrial Park Road, Skowhegan, ME 04975 | 11/06/01 | Men's and women's hand-sewn casual shoes.
ACO, Inc, | 501 SW 9th Street, Oklahoma City, OK 73109 | 11/07/01 | Plastic injection molding.
Devalmont Vineyards, Inc, | 8400 Pan American Freeway N.E., Albuquerque, NM 87113 | 11/07/01 | White wine.
Fabtech, Inc, | 777 N.W. Blue Parkway, Lee's Summit, MO 64086 | 11/08/01 | Diode wafers.
Haldex Barnes Corporation | 2222 15th Street, Rockford, IL 61104 | 11/08/01 | Hydraulic fluid gear pumps.
C. R. Hudgins Plating, Inc, | 3600 Candlers Mountain Road, Lynchburg, VA 24502 | 11/09/01 | Metal plating for electronic components.
Basin Frozen Foods, Inc, | 1203 Basin, Warden, WA 98857 | 11/13/01 | Potato products i.e., frozen hash browns and french fries.
Reitz Tool, Inc, | 239 South Franklin St. Extension, Cochranton, PA 16314 | 11/13/01 | Semiconductor molds used in the automotive and telecommunications industries.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance.)
Dated: November 16, 2001.
Anthony J. Meyer,
Coordinator, Trade Adjustment and Technical Assistance.

[FR Doc. 01-29434 Filed 11-26-01; 8:45 am]

BILLING CODE 3510-24-P